ENVIRONMENTAL PROTECTION AGENCY

[EPA-HQ-OPP-2020-0060; FRL-10012-40]

Notice of Receipt of Requests to Voluntarily Cancel Certain Pesticide Registrations and Amend Registrations To Terminate Certain Uses

AGENCY: Environmental Protection Agency (EPA).

ACTION: Notice.

SUMMARY: In accordance with the Federal Insecticide, Fungicide, and Rodenticide Act (FIFRA), EPA is issuing a notice of receipt of requests by the registrants to voluntarily cancel certain pesticide product registrations and to amend certain product registrations to terminate uses. EPA intends to grant these requests at the close of the comment period for this announcement unless the Agency receives substantive comments within the comment period that would merit its further review of the requests, or unless the registrants withdraw their requests. If these requests are granted, any sale, distribution, or use of products listed in this notice will be permitted after the registrations have been cancelled and uses terminated only if such sale, distribution, or use is consistent with the terms as described in the final order.

DATES: Comments must be received on or before August 31, 2020.

ADDRESSES: Submit your comments, identified by docket identification (ID) number EPA-HQ-OPP-2020-0060, by one of the following methods:

Federal eRulemaking Portal: http://www.regulations.gov. Follow the online instructions for submitting comments. Do not submit electronically any information you consider to be Confidential Business Information (CBI) or other information whose disclosure is restricted by statute.

Mail: OPP Docket, Environmental Protection Agency Docket Center (EPA/DC), (28221T), 1200 Pennsylvania Ave. NW, Washington, DC 20460-0001.

Submit written withdrawal request by mail to: Information Technology and Resources Management Division (7502P), Office of Pesticide Programs, Environmental Protection Agency, 1200 Pennsylvania Ave. NW, Washington, DC 20460-0001. ATTN: Christopher Green.

Hand Delivery: To make special arrangements for hand delivery or delivery of boxed information, please follow the instructions at http://www.epa.gov/dockets/contacts.html.

Please note that due to the public health emergency the EPA Docket Center (EPA/DC) and Reading Room was closed to public visitors on March 31, 2020. Our EPA/DC staff will continue to provide customer service via email, phone, and webform. For further information on EPA/DC services, docket contact information and the current status of the EPA/DC and Reading Room, please visit https://www.epa.gov/dockets.

FOR FURTHER INFORMATION CONTACT: Christopher Green, Information Technology and Resources Management Division (7502P), Office of Pesticide Programs, Environmental Protection Agency, 1200 Pennsylvania Ave. NW, Washington, DC 20460-0001; telephone number: (703) 347-0367; email address: green.christopher@epa.gov.

SUPPLEMENTARY INFORMATION:

I. General Information

A. Does this action apply to me?

This action is directed to the public in general and may be of interest to a wide range of stakeholders including environmental, human health, and agricultural advocates; the chemical industry; pesticide users; and members of the public interested in the sale, distribution, or use of pesticides. Since others also may be interested, the Agency has not attempted to describe all the specific entities that may be affected by this action.

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at http://www.epa.gov/dockets/comments.html.

II. What action is the Agency taking?

This notice announces receipt by EPA of requests from registrants to cancel certain pesticide products and amend product registrations to terminate certain uses registered under FIFRA section 3 (7 U.S.C. 136a) or 24(c) (7 U.S.C. 136v(c)). The affected products and the registrants making the requests are identified in Tables 1-3 of this unit.

Unless a request is withdrawn by the registrant or if the Agency determines that there are substantive comments that warrant further review of this request, EPA intends to issue an order in the Federal Register canceling and amending the affected registrations.

Table 1—Product Registrations With Pending Requests for Cancellation
Registration No. | Company No. | Product name | Active ingredients
241-409 | 241 | Oasis Herbicide | 2,4-D, 2-ethylhexyl ester & Imazapic.
241-425 | 241 | Glyphosate Residual RTU | Glyphosate-isopropylammonium & Imazapic-ammonium.
241-442 | 241 | Imazapic E 2l Herbicide | Imazapic-ammonium.
241-444 | 241 | ETI 115 01 H | Imazapic-ammonium.
264-1069 | 264 | Trilex Advanced 300 | Metalaxyl; Triadimenol & Trifloxystrobin.
352-600 | 352 | DPX-MX670 MT | Atrazine & Dimethenamid.
352-693 | 352 | Dupont Diuron MUP | Diuron.
352-703 | 352 | Dupont Diuron Technical | Diuron.
352-849 | 352 | Dupont Diuron 80 Dry Herbicide | Diuron.
464-8132 | 464 | Aqucar PS 75W MUP Water Treatment Microbiocide (Alternate Name) | Tetrakis(hydroxymethyl)phosphonium sulphate (THPS).
881-10 | 881 | Richo Bock Sanitizing Rinse | Oxirane, methyl-, polymer with oxirane, monobutyl ether, compd. with iodine.
1258-1324 | 1258 | Vantocil NR | Poly(iminoimidocarbonyliminoimidocarbonyliminohexamethylene) hydrochloride.
5481-600 | 5481 | Tri-Scept Herbicide | Trifluralin & 3-Quinolinecarboxylic acid, 2-(4,5-dihydro-4-methyl-4-(1-methylethyl)-5-oxo-1H-imidazol-2-yl)-, monoammonium salt.
8378-17 | 8378 | 25-5-10 Turf Food with Crabgrass Control | Trifluralin & Benfluralin.
8378-18 | 8378 | Shaw's Premium Turf Food with Crabgrass Control | Trifluralin & Benfluralin.
8378-19 | 8378 | Premium Lawn Food with Crabgrass Control | Trifluralin & Benfluralin.
8378-20 | 8378 | Shaw's 18-5-9 Turf Food with XL Crabgrass Control | Trifluralin & Benfluralin.
8378-37 | 8378 | Shaw's Turf Food & Crabgrass Control W/Team 142 | Trifluralin & Benfluralin.
8660-165 | 8660 | Sta-Green Flower & Garden Weed Preventer | Trifluralin.
8660-166 | 8660 | Flower & Garden Weed Preventer Plus Fertilizer | Trifluralin.
9688-133 | 9688 | Chemsico Green 'N Weed 15-15-15 | Trifluralin.
10088-56 | 10088 | Malathion 57% | Malathion (NO INERT USE).
34704-970 | 34704 | LPI ET 75 | Imidacloprid.
34704-1009 | 34704 | Malice 75 WSP | Imidacloprid.
39967-69 | 39967 | Preventol A20 | Triadimefon & Tebuconazole.
39967-70 | 39967 | Preventol A20 Preservative | Triadimefon & Tebuconazole.
45385-66 | 45385 | Chem-Tox Mal 50-OS | Malathion (NO INERT USE).
47000-77 | 47000 | CPI Disinfectant Cleaner 30-3 | 1-Decanaminium, N-decyl-N,N-dimethyl-, chloride.
49585-25 | 49585 | Garden Weeder | Trifluralin.
62719-614 | 62719 | Firststep Herbicide Tank Mix | Glycine, N-(phosphonomethyl)-, compd. with N-methylmethanamine (1:1) & Florasulam.
65656-7 | 65656 | Dicamba Acid Technical | Dicamba.
66330-274 | 66330 | Bacillus Cereus BP01 Technical | Bacillus cereus strain BP01.
66330-282 | 66330 | BP01 1.7 | Bacillus cereus strain BP01.
66330-291 | 66330 | PGR-IV/BP Foliar | Gibberellic acid & Bacillus cereus strain BP01.
66330-351 | 66330 | Pix Plus Plant Regulator | Mepiquat chloride & Bacillus cereus strain BP01.
67071-74 | 67071 | Acticide SR 8213 C | Zinc pyrithione; 1,2-Benzisothiazolin-3-one & 2-Methyl-3(2H)-isothiazolone.
67071-97 | 67071 | Acticide LPN 11 (Alternate) | Zinc pyrithione; 1,2-Benzisothiazolin-3-one & 2-Methyl-3(2H)-isothiazolone.
ID-110006 | 7969 | Liberty 280 SL Herbicide | Glufosinate.
MI-080003 | 62719 | Starane Ultra | Fluroxypyr-meptyl.
WA-150001 | 61842 | Lime-Sulfur Solution | Lime sulfur.

Table 1A—Product Registrations With Pending Requests for Cancellation
Registration No. | Company No. | Product name | Active ingredients
56228-32 | 56228 | M-44 Cyanide Capsules Arctic Fox | Sodium cyanide.

The registrant of the product listed in Table 1A, of Unit II, has requested the effective date of December 31, 2019, for the cancellation.

Table 2—Product Registrations With Pending Requests for Amendment
Registration No. | Company No. | Product name | Active ingredient | Uses to be terminated
34704-858 | 34704 | Sniper | Bifenthrin | Alfalfa Grown for Seed.
71711-4 | 71711 | Akari 5SC Miticide/Insecticide | Fenpyroximate | Cranberry and Highbush Cranberry.
71711-18 | 71711 | Fenpyroximate Technical | Fenpyroximate | Cranberry and Highbush Cranberry.
71711-19 | 71711 | Fujimite 5EC Miticide/Insecticide | Fenpyroximate | Cranberry and Highbush Cranberry.
71711-40 | 71711 | NAI-2399-2 5EC Miticide/Insecticide | Fenpyroximate | Cranberry and Highbush Cranberry.
71711-54 | 71711 | Fenpyroximate 5SC MUP | Fenpyroximate | Cranberry and Highbush Cranberry.
71711-60 | 71711 | Fenpyroximate 5EC MUP | Fenpyroximate | Cranberry and Highbush Cranberry.

Table 3 of this unit includes the names and addresses of record for all the registrants of the products listed in Tables 1, 1A and 2 of this unit, in sequence by EPA company number. This number corresponds to the first part of the EPA registration numbers of the products listed in Table 1, Table 1A and Table 2 of this unit.

Table 3—Registrants Requesting Voluntary Cancellation and/or Amendments
EPA company No. | Company name and address
241 | BASF Corporation, 26 Davis Drive, P.O. Box 13528, Research Triangle Park, NC 27709-3528.
264 | Bayer CropScience, LP, 800 N Lindbergh Blvd., St. Louis, MO 63167.
352 | E. I. Du Pont De Nemours and Company, 9330 Zionsville Road, Indianapolis, IN 46268.
464 | Nutrition & Biosciences USA 1, LLC, 1652 Larkin Center Drive, 100 Larkin Center, Midland, MI 48642.
881 | Richardson Chemical Products Co., P.O. Box 240014, Milwaukee, WI 53224.
1258 | Arch Chemicals, Inc., 1200 Bluegrass Lakes Parkway, Alpharetta, GA 30004.
5481 | AMVAC Chemical Corporation, 4695 MacArthur Court, Suite 1200, Newport Beach, CA 92660-1706.
7969 | BASF Corporation Agricultural Products, 26 Davis Drive, P.O. Box 13528, Research Triangle Park, NC 27709-3528.
8378 | Knox Fertilizer Company, Inc., Agent Name: Fred Betz Regulatory Strategies, 922 Melvin Road, Annapolis, MD 21403.
8660 | United Industries Corp., D/B/A Sylorr Plant Corp., P.O. Box 142642, St. Louis, MO 63114-0642.
9688 | Chemsico, A Division of United Industries Corp., P.O. Box 142642, St Louis, MO 63114-0642.
10088 | Athea Laboratories, Inc., P.O. Box 240014, Milwaukee, WI 53224.
34704 | Loveland Products, Inc., P.O. Box 1286, Greeley, CO 80632-1286.
39967 | Lanxess Corporation, 111 RIDC Park West Drive, Pittsburgh, PA 15275-1112.
45385 | CTX-Cenol, Inc., 1393 East Highland Rd., Twinsburg, OH 44087.
47000 | Chem-Tech, Ltd., 620 Lesher Place, Lansing, MI 48912.
49585 | Alljack, Division of United Industries Corp., P.O. Box 142642, St. Louis, MO 63114-0642.
56228 | U.S. Department of Agriculture, Animal and Plant Health Inspection Service, 4700 River Road, Unit 149, Riverdale, MD 20737.
61842 | Tessenderlo Kerley, Inc., Agent Name: Pyxis Regulatory Consulting, Inc., 4110 136th Street, Ct. NW, Gig Harbor, WA 98332.
62719 | Dow Agrosciences, LLC, 9330 Zionsville Rd., 308/2E, Indianapolis, IN 46268-1054.
65656 | Gilmore Marketing and Development, Agent Name: Biologic Regulatory Consulting, Inc., 10529 Heritage Bay Blvd., Naples, FL 34120.
66330 | Arysta Lifescience North America, LLC, Agent Name: UPL NA, Inc., 630 Freedom Business Center, Suite 402, King of Prussia, PA 19406.
67071 | Thor GMBH, Agent Name: Thor Specialties, Inc., 50 Waterview Drive, Shelton, CT 06484.
71711 | Nichino America, Inc., 4550 Linden Hill Road, Suite 501, Wilmington, DE 19808.

III. What is the Agency's authority for taking this action?

FIFRA section 6(f)(1) (7 U.S.C. 136d(f)(1)) provides that a registrant of a pesticide product may at any time request that any of its pesticide registrations be canceled or amended to terminate one or more uses. FIFRA further provides that, before acting on the request, EPA must publish a notice of receipt of any such request in the Federal Register.

FIFRA section 6(f)(1)(B) (7 U.S.C. 136d(f)(1)(B)) requires that before acting on a request for voluntary cancellation, EPA must provide a 30-day public comment period on the request for voluntary cancellation or use termination. In addition, FIFRA section 6(f)(1)(C) (7 U.S.C. 136d(f)(1)(C)) requires that EPA provide a 180-day comment period on a request for voluntary cancellation or termination of any minor agricultural use before granting the request, unless:

1. The registrants request a waiver of the comment period, or

2. The EPA Administrator determines that continued use of the pesticide would pose an unreasonable adverse effect on the environment.

The registrants listed in Table 3 of Unit II. have requested that EPA waive the 180-day comment period. Accordingly, EPA is providing a 30-day comment period on the proposed requests.

IV. Procedures for Withdrawal of Requests

Registrants who choose to withdraw a request for product cancellation or use termination should submit the withdrawal in writing to the person listed under FOR FURTHER INFORMATION CONTACT. If the products have been subject to a previous cancellation or termination action, the effective date of cancellation or termination and all other provisions of any earlier cancellation or termination action are controlling.

V. Provisions for Disposition of Existing Stocks

Existing stocks are those stocks of registered pesticide products that are currently in the United States and that were packaged, labeled, and released for shipment prior to the effective date of the action. If the requests for voluntary cancellation and amendments to terminate uses are granted, the Agency intends to publish the cancellation order in the Federal Register.

In any order issued in response to these requests for cancellation of product registrations and for amendments to terminate uses, EPA proposes to include the following provisions for the treatment of any existing stocks of the products listed in Table 1 and Table 1A of Unit II.

For Product 56228-32

For product 56228-32, listed in Table 1A of Unit II, the registrant has requested the cancellation date to be December 31, 2019; therefore, the registrant will be permitted to sell and distribute existing stocks of the voluntarily canceled product for 1 year after the effective date of the cancellation, which will be until December 31, 2020. Thereafter, the registrant will be prohibited from selling or distributing the product, except for export consistent with FIFRA section 17 (7 U.S.C. 136o) or for proper disposal.

For all other voluntary product cancellations, identified in Table 1 of Unit II, registrants will be permitted to sell and distribute existing stocks of voluntarily canceled products for 1 year after the effective date of the cancellation, which will be the date of publication of the cancellation order in the Federal Register. Thereafter, registrants will be prohibited from selling or distributing all other products identified in Table 1 of Unit II, except for export consistent with FIFRA section 17 (7 U.S.C. 136o) or for proper disposal.

Once EPA has approved product labels reflecting the requested amendments to terminate uses, identified in Table 2 of Unit II, registrants will be permitted to sell or distribute products under the previously approved labeling for a period of 18-months after the date of Federal Register publication of the cancellation order, unless other restrictions have been imposed. Thereafter, registrants will be prohibited from selling or distributing the products whose labels include the terminated uses identified in Table 2 of Unit II, except for export consistent with FIFRA section 17 or for proper disposal.

Persons other than the registrant may sell, distribute, or use existing stocks of canceled products and products whose labels include the terminated uses until supplies are exhausted, provided that such sale, distribution, or use is consistent with the terms of the previously approved labeling on, or that accompanied, the canceled products and terminated uses.

Authority: 7 U.S.C. 136 et seq.

Dated: July 15, 2020.
Delores Barber,
Director, Information Technology and Resources Management Division, Office of Pesticide Programs.

[FR Doc. 2020-16515 Filed 7-29-20; 8:45 am]

BILLING CODE 6560-50-P